DEPARTMENT OF COMMERCE

National Oceanic and Atmospheric Administration

50 CFR Part 300

RIN 0648-XD548

Fraser River Sockeye Salmon Fisheries; Inseason Orders

AGENCY: National Marine Fisheries Service (NMFS), National Oceanic and Atmospheric Administration (NOAA), Commerce.

ACTION: Temporary orders; inseason orders.

SUMMARY: NMFS publishes Fraser River salmon inseason orders to regulate treaty and non-treaty (all citizen) commercial salmon fisheries in U.S. waters. The orders were issued by the Fraser River Panel (Panel) of the Pacific Salmon Commission (Commission) and subsequently approved and issued by NMFS during the 2014 salmon fisheries within the U.S. Fraser River Panel Area. These orders established fishing dates, times, and areas for the gear types of U.S. treaty Indian and all citizen commercial fisheries during the period the Panel exercised jurisdiction over these fisheries.

DATES: The effective dates for the inseason orders are set out in this document under the heading Inseason Orders.

FOR FURTHER INFORMATION CONTACT: Peggy Mundy at 206-526-4323.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F, provide a framework for the implementation of certain regulations of the Commission and inseason orders of the Commission's Fraser River Panel for U.S. sockeye salmon fisheries in the Fraser River Panel Area.

The regulations close the U.S. portion of the Fraser River Panel Area to U.S. sockeye tribal and non-tribal commercial fishing unless opened by Panel orders that are given effect by inseason regulations published by NMFS. During the fishing season, NMFS may issue regulations that establish fishing times and areas consistent with the Commission agreements and inseason orders of the Panel. Such orders must be consistent with domestic legal obligations and are issued by the Regional Administrator, West Coast Region, NMFS. Official notification of these inseason actions is provided by two telephone hotline numbers described at 50 CFR 300.97(b)(1) and in 79 FR 24580 (May 1, 2014). The inseason orders are published in the Federal Register as soon as practicable after they are issued. Due to the frequency with which inseason orders are issued, publication of individual orders is impractical.

Inseason Orders

The following inseason orders were adopted by the Panel and issued for U.S. fisheries by NMFS during the 2014 fishing season. Each of the following inseason actions was effective upon announcement on telephone hotline numbers as specified at 50 CFR 300.97(b)(1) and in 79 FR 24580 (May 1, 2014); those dates and times are listed herein. The times listed are local times, and the areas designated are Puget Sound Management and Catch Reporting Areas as defined in the Washington State Administrative Code at Chapter 220-22.

Fraser River Panel Order Number 2014-01: Issued 2:10 p.m., July 29, 2014

Treaty Indian Fishery

Areas 4B, 5, and 6C: Open to drift gillnets 12 p.m. (noon), Thursday, July 31, 2014, to 12 p.m. (noon), Saturday, August 2, 2014.

Fraser River Panel Order Number 2014-02: Issued 12:45 p.m., August 1, 2014

Treaty Indian Fishery

Areas 4B, 5, and 6C: Extend for drift gillnets 12 p.m. (noon), Saturday, August 2, 2014, to 12 p.m. (noon), Wednesday, August 6, 2014.

Fraser River Panel Order Number 2014-03: Issued 12:15 p.m., August 5, 2014

Treaty Indian Fishery

Areas 4B, 5, and 6C: Extend for drift gillnets 12 p.m. (noon), Wednesday, August 6, 2014, to 12 p.m. (noon), Saturday, August 9, 2014.

Areas 6, 7, and 7A: Open for net fishing from 5 a.m., Thursday, August 7, 2014 through 9 a.m., Saturday, August 9, 2014.

All Citizen Fishery

Area 7 and 7A: Open to purse seines from 5 a.m. to 9 p.m., Saturday, August 9, 2014.

Area 7 and 7A: Open to gillnets from 8 a.m. to 11:59 p.m. (midnight), Saturday, August 9, 2014.

Area 7 and 7A: Open to reefnets from 5 a.m. to 9 p.m., Sunday, August 10, 2014.

Fraser River Panel Order Number 2014-04: Issued 12:55 p.m., August 8, 2014

Treaty Indian Fishery

Areas 4B, 5, and 6C: Extend for drift gillnets 12 p.m. (noon), Saturday, August 9, 2014, to 12 p.m. (noon), Wednesday, August 13, 2014.

Areas 6, 7, and 7A: Open for net fishing from 5 a.m. Sunday, August 10, 2014 through 9 a.m., Tuesday, August 12, 2014.

All Citizen Fishery

Area 7 and 7A: Open to purse seines from 5 a.m. to 9 p.m., Tuesday, August 12, 2014.

Area 7 and 7A: Open to gillnets from 8 a.m. to 11:59 p.m. (midnight), Tuesday, August 12, 2014.

Area 7 and 7A: Open to reefnets from 5 a.m. to 9 p.m., Monday, August 11, 2014.

Fraser River Panel Order Number 2014-05: Issued 12:20 p.m., August 12, 2014

Treaty Indian Fishery

Areas 4B, 5, and 6C: Extend for drift gillnets 12 p.m. (noon), Wednesday, August 13, 2014, to 12 p.m. (noon), Saturday, August 16, 2014.

Areas 6, 7, and 7A: Open for net fishing from 5 a.m. Wednesday, August 13, 2014 through 9 a.m., Thursday, August 14, 2014.

Areas 6, 7, and 7A: Open for net fishing from 5 a.m., Friday, August 15, 2014 through 9 a.m., Saturday, August 16, 2014.

All Citizen Fishery

Areas 7 and 7A: Open to purse seines from 5 a.m. to 9 p.m., Thursday, August 14, 2014.

Areas 7 and 7A: Open to gillnets from 8 a.m. to 11:59 p.m. (midnight), Thursday, August 14, 2014.

Areas 7 and 7A: Open to reefnets from 5 a.m. to 9 p.m., Wednesday, August 13, 2014.

Fraser River Panel Order Number 2014-06: Issued 2:30 p.m., August 15, 2014

Treaty Indian Fishery

Areas 4B, 5, and 6C: Extend for drift gillnets 12 p.m. (noon), Saturday, August 16, 2014, to 12 p.m. (noon), Wednesday, August 20, 2014.

Areas 6, 7, and 7A: Extend for net fishing from 9 a.m., Saturday, August 16, 2014 through 9 a.m., Monday, August 18, 2014.

Areas 6, 7, and 7A: Open for net fishing from 5 a.m., Tuesday, August 19, 2014 through 9 a.m., Wednesday, August 20, 2014.

All Citizen Fishery

Areas 7 and 7A: Open to purse seines from 5 a.m. to 9 p.m., Monday, August 18, 2014.

Areas 7 and 7A: Open to gillnets from 8 a.m. to 11:59 p.m. (midnight), Monday, August 18, 2014.

Areas 7 and 7A: Open to reefnets from 5 a.m. to 9 p.m., Monday, August 18, 2014.

Fraser River Panel Order Number 2014-07: Issued 1:35 p.m., August 19, 2014

Treaty Indian Fishery

Areas 4B, 5, and 6C: Extend for drift gillnets from 12 p.m. (noon), Wednesday, August 20, 2014 through 12 p.m. (noon), Saturday, August 23, 2014.

Areas 6, 7, and 7A: Extend for net fishing from 9 a.m., Wednesday, August 20, 2014 through 9 a.m., Thursday, August 21, 2014.

All Citizen Fishery

Areas 7 and 7A: Open to purse seines from 5 a.m. to 9 p.m., Thursday, August 21, 2014 and Friday, August 22, 2014.

Areas 7 and 7A: Open to gillnets from 8 a.m. to 11:59 p.m. (midnight), Thursday, August 21, 2014 and Friday, August 22, 2014.

Areas 7 and 7A: Open to reefnets from 5 a.m. to 9 p.m., Wednesday, August 20, 2014, Thursday, August 21, 2014, and Friday, August 22, 2014.

Fraser River Panel Order Number 2014-08: Issued 1:30 p.m., August 22, 2014

Treaty Indian Fishery

Areas 4B, 5, and 6C: Extend for drift gillnets from 12 p.m. (noon), Saturday, August 23, 2014 through 12 p.m. (noon), Wednesday, August 27, 2014.

Areas 6, 7, and 7A: Open for net fishing from 5 a.m., Saturday, August 23, 2014 through 9 a.m., Monday, August 25, 2014.

All Citizen Fishery

Areas 7 and 7A: Open to purse seines from 5 a.m. to 9 p.m., Monday, August 25, 2014 and Tuesday, August 26, 2014.

Areas 7 and 7A: Open to gillnets from 8 a.m. to 11:59 p.m. (midnight), Monday, August 25, 2014 and Tuesday, August 26, 2014.

Areas 7 and 7A: Open to reefnets from 5 a.m. to 9 p.m., daily from Saturday, August 23, 2014 through Tuesday, August 26, 2014.

Fraser River Panel Order Number 2014-09: Issued 1:45 p.m., August 26, 2014

Treaty Indian Fishery

Areas 4B, 5, and 6C: Extend for drift gillnets from 12 p.m. (noon), Wednesday, August 27, 2014 through 12 p.m. (noon), Saturday, August 30, 2014.

Areas 6, 7, and 7A: Open for net fishing from 5 a.m., Wednesday 27, 2014 through 9 a.m., Saturday, August 30, 2014.

All Citizen Fishery

Areas 7 and 7A: Open to reefnets from 5 a.m. to 9 p.m., daily from Wednesday, August 27, 2014 through Friday, August 29, 2014.

Fraser River Panel Order Number 2014-10: Issued 1:30 p.m., August 29, 2014

Treaty Indian Fishery

Areas 4B, 5, and 6C: Extend for drift gillnets from 12 p.m. (noon), Saturday, August 30, 2014 through 12 p.m. (noon), Wednesday, September 3, 2014.

Areas 6, 7, and 7A: Extend for net fishing from 9 a.m., Saturday, August 30, 2014 through 9 a.m., Sunday, August 31, 2014.

Areas 6, 7, and 7A: Open for net fishing from 12:01 a.m. (midnight), Tuesday, September 2, 2014 through 9 a.m., Wednesday, September 3, 2014.

All Citizen Fishery

Areas 7 and 7A: Open to purse seines from 5 a.m. to 9 p.m., Sunday, August 31, 2014.

Areas 7 and 7A: Open to gillnets from 8 a.m. to 11:59 p.m. (midnight), Monday, September 1, 2014.

Areas 7 and 7A: Open to reefnets from 5 a.m. to 9 p.m., daily from Saturday, August 30, 2014 through Tuesday, September 2, 2014.

Fraser River Panel Order Number 2014-11: Issued 1:30 p.m., September 2, 2014

Treaty Indian Fishery

Areas 4B, 5, and 6C: Extend for drift gillnets from 12 p.m. (noon), Wednesday, September 3, 2014 through 12 p.m. (noon), Saturday, September 6, 2014.

Areas 6, 7, and 7A: Extend for net fishing from 9 a.m., Wednesday, September 3, 2014 through 9 a.m., Friday, September 5, 2014.

All Citizen Fishery

Areas 7 and 7A: Open to purse seines from 5 a.m. to 9 p.m., Friday, September 5, 2014.

Areas 7 and 7A: Open to gillnets from 8:05 a.m. to 11:59 p.m. (midnight), Friday, September 5, 2014.

Areas 7 and 7A: Open to reefnets from 5 a.m. to 9 p.m., daily from Wednesday, September 3, 2014 through Friday, September 5, 2014.

Fraser River Panel Order Number 2014-12: Issued 1:30 p.m., September 5, 2014

Treaty Indian Fishery

Areas 4B, 5, and 6C: Extend for drift gillnets from 12 p.m. (noon), Saturday, September 6, 2014 through 12 p.m. (noon), Wednesday, September 10, 2014.

Areas 6, 7, and 7A: Open for net fishing from 5 a.m., Sunday, September 7, 2014 through 9 a.m., Wednesday, September 10, 2014.

All Citizen Fishery

Areas 7 and 7A: Open to purse seines from 5 a.m. to 9 p.m., Saturday, September 6, 2014.

Areas 7 and 7A: Open to gillnets from 8:10 a.m. to 11:59 p.m. (midnight), Saturday, September 6, 2014.

Areas 7 and 7A: Open to reefnets from 5 a.m. to 9 p.m., daily from Saturday, September 6, 2014 through Tuesday, September 9, 2014.

Fraser River Panel Order Number 2014-13: Issued 1:15 p.m., September 9, 2014

Treaty Indian Fishery

Areas 4B, 5, and 6C: Extend for drift gillnets from 12 p.m. (noon), Wednesday, September 10, 2014 through 11:59 p.m. (midnight), Saturday, September 13, 2014.

Areas 6, 7, and 7A: Extend for net fishing from 9 a.m., Wednesday, September 10, 2014 through 9 a.m., Saturday, September 13, 2014.

All Citizen Fishery

Areas 7 and 7A: Open to purse seines from 5 a.m. to 9 p.m., Saturday, September 13, 2014.

Areas 7 and 7A: Open to gillnets from 8:20 a.m. to 11:59 p.m. (midnight), Saturday, September 13, 2014.

Areas 7 and 7A: Open to reefnets from 5 a.m. to 9 p.m., daily from Wednesday, September 10, 2014 through Friday, September 12, 2014.

Fraser River Panel Order Number 2014-14: Issued 1:30 p.m., September 12, 2014

Treaty Indian Fishery

Areas 6, 7, and 7A: Extend for net fishing from 9 a.m., Saturday, September 13, 2014 until 11:59 p.m. (midnight), Saturday, September 20, 2014.

All Citizen Fishery

Areas 7 and 7A: Open to reefnets from 5 a.m. to 9 p.m., daily from Saturday, September 13, 2014 through Saturday, September 20, 2014.

Fraser River Panel Order Number 2014-15: Issued 4:30 p.m., September 18, 2014

Treaty Indian Fishery

Area 7A: Open to net fishing from 5 a.m., Monday, September 22, 2014 until 9 a.m., Wednesday, September 24, 2014.

All Citizen Fishery

Areas 7 and 7A: Open to purse seines from 5 a.m. until 9 p.m., Saturday, September 20, 2014.

Area 7A: Open to purse seines from 5 a.m. until 9 p.m., Sunday, September 21, 2014.

Areas 7 and 7A: Open to gillnets from 8:25 a.m. until 11:59 p.m. (midnight), Saturday, September 20, 2014.

Area 7A: Open to gillnets from 8:30 a.m. until 11:59 p.m. (midnight), Sunday, September 21, 2014.

Treaty Indian and All Citizen Fisheries

Areas 6 and 7: Relinquish regulatory control effective 11:59 p.m. (midnight), Saturday, September 20, 2014.

Area 7A: Retain regulatory control through 11:59 p.m. (midnight), Saturday, September 27, 2014.

Fraser River Panel Order Number 2014-16: Issued 2 p.m., September 22, 2014

Treaty Indian Fishery

Area 7A: Extend for net fishing from 9 a.m., Wednesday, September 24, 2014 through 11:59 p.m. (midnight), Saturday, September 27.

All Citizen Fishery

Area 7A: Open to purse seines from 5 a.m. until 9 p.m., Wednesday, September 24, 2014.

Area 7A: Open to gillnets from 8:35 a.m. until 11:59 p.m. (midnight), Wednesday, September 24, 2014.

Fraser River Panel Order Number 2014-17: Issued 2 p.m., September 25, 2014

Treaty Indian and All Citizen Fisheries

Area 7A, excluding the Apex: Relinquish regulatory control as scheduled effective 11:59 p.m. (midnight), Saturday, September 27, 2014.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: October 29, 2014.
Emily H. Menashes,
Acting Director, Office of Sustainable Fisheries, National Marine Fisheries Service.

[FR Doc. 2014-26113 Filed 11-6-14; 8:45 am]

BILLING CODE 3510-22-P